DEPARTMENT OF TRANSPORTATION

Federal Aviation Administration

Notice of Extension of Public Comment Period on the Draft Environmental Impact Statement for the SpaceX Starship-Super Heavy Vehicle at Launch Complex 39A, at Kennedy Space Center in Merritt Island, Florida

AGENCY: Federal Aviation Administration (FAA), DOT.

ACTION: Public comment period.

SUMMARY: In accordance with the National Environmental Policy Act of 1969, as amended (NEPA) and FAA Order 1050.1F, Environmental Impacts: Policies and Procedures, the FAA is announcing the extension of the comment period on the Draft Environmental Impact Statement for SpaceX Starship-Super Heavy Vehicle operations at Launch Complex 39A at Kennedy Space Center in Merritt Island, Florida (Draft EIS).

DATES: The public comment period for the Draft EIS will close on September 29, 2025.

ADDRESSES: The Draft EIS is available for public review at https://www.faa.gov/space/stakeholder_engagement/spacex_starship_ksc. The Draft EIS has been posted and comments will be received through the Federal E-Rulemaking Portal: https://www.regulations.gov. Search for “FAA-2024-1395” to retrieve the docket and follow the instructions to submit a comment.

The FAA invites interested parties to submit comments on the Draft EIS. Public comments can be submitted electronically to www.regulations.gov under Docket No. FAA-2024-1395, by postal mail to Ms. Eva Long, FAA Environmental Protection Specialist, c/o Leidos, 2877 Guardian Lane, Virginia Beach, VA 23452.

SUPPLEMENTARY INFORMATION: The Draft EIS analyzes:

• Up to 44 Starship-Super Heavy launches per year

• Up to 44 Super Heavy landings per year, to include landings at LC-39A, landing on a droneship in the Atlantic Ocean, or expending in the Atlantic Ocean

• Up to 44 Starship landings per year, to include landings at LC-39A, landing on a droneship in the Atlantic Ocean, or soft-water or hard-water landing with expending or recovery in the Atlantic Ocean, Pacific Ocean, or Indian Ocean

• Construction of launch, landing, and other associated infrastructure at and in proximity to LC-39A

Before including your address, phone number, email address, or other personal identifying information in your comment, be advised that your entire comment—including your personal identifying information—may be made publicly available at any time. While you can ask the FAA in your comment to withhold from public review your personal identifying information, the FAA cannot guarantee that it will be able to do so. All comments received during the comment period will be given equal weight and be taken into consideration in the preparation of the Final EIS.

Issued in Washington, DC, on September 22, 2025.
Stacey Molinich Zee,
Manager, Operations Support Branch.

[FR Doc. 2025-18523 Filed 9-23-25; 8:45 am]

BILLING CODE 4910-13-P